DEPARTMENT OF VETERANS AFFAIRS

[OMB Control No. 2900-New (22-0810)]

Agency Information Collection Activities Under OMB Review

AGENCY: Veterans Benefits Administration, Department of Veterans Affairs.

ACTION: Notice.

SUMMARY: In compliance with the Paperwork Reduction Act (PRA) of 1995 (44 U.S.C. 3501-3521), this notice announces that the Veterans Benefits Administration (VBA), Department of Veterans Affairs, has submitted the collection of information abstracted below to the Office of Management and Budget (OMB) for review and comment. The PRA submission describes the nature of the information collection and its expected cost and burden; it includes the actual data collection instrument.

DATES: Comments must be submitted on or before November 15, 2007.

ADDRESSES: Submit written comments on the collection of information through http://www.Regulations.gov or to VA's OMB Desk Officer, OMB Human Resources and Housing Branch, New Executive Office Building, Room 10235, Washington, DC 20503, (202) 395-7316. Please refer to “OMB Control No. 2900-New (22-0810)” in any correspondence.

FOR FURTHER INFORMATION CONTACT: Denise McLamb, Records Management Service (005R1B), Department of Veterans Affairs, 810 Vermont Avenue, NW., Washington, DC 20420, (202) 461-7485, FAX (202) 273-0443 or e-mail denise.mclamb@mail.va.gov. Please refer to “OMB Control No. 2900-New (22-0810).”

SUPPLEMENTARY INFORMATION: Title: Application for Reimbursement of National Test Fee, VA Form 22-0810.

OMB Control Number: 2900-New (22-0810).

Type of Review: Existing collection in use without an OMB control number.

Abstract: Servicemembers, veterans, and eligible dependents complete VA Form 22-0810 to request reimbursement of national test fees. VA will use the data collected to determine the claimant's eligibility for reimbursement.

An agency may not conduct or sponsor, and a person is not required to respond to a collection of information unless it displays a currently valid OMB control number. The Federal Register Notice with a 60-day comment period soliciting comments on this collection of information was published on August 8, 2007, at page 44614.

Affected Public: Individuals or households.

Estimated Annual Burden: 32 hours.

Estimated Average Burden per Respondent: 15 minutes.

Frequency of Response: On occasion.

Estimated Number of Respondents: 129.

Dated: October 10, 2007.
By direction of the Secretary.
Denise McLamb,
Program Analyst, Records Management Service.

[FR Doc. E7-20350 Filed 10-15-07; 8:45 am]

BILLING CODE 8320-01-P